ENVIRONMENTAL PROTECTION AGENCY

40 CFR Part 180

[EPA-HQ-OPP-2010-0423; FRL-8879-2]

Mevinphos; Data Call-in Order for Pesticide Tolerances

Correction

In rule document 2011-16355 appearing on pages 38037-38040 in the issue of June 29, 2011, make the following correction:

On page 38039, in the third column, in the first full paragraph, in the fifth and sixth lines, “June 29, 2011” should read “September 27, 2011”.

[FR Doc. C1-2011-16355 Filed 7-8-11; 8:45 am]

BILLING CODE 1505-01-D